DEPARTMENT OF TRANSPORTATION

Federal Aviation Administration

Notice of Passenger Facility Charge (PFC) Approvals and Disapprovals

AGENCY: Federal Aviation Administration (FAA), DOT.

ACTION: Monthly Notice of PFC Approvals and Disapprovals. In January 2014, there were two applications approved. This notice also includes information on one application, approved in October 2013, inadvertently left off the October 2013 notice. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: County of Routt, Hayden, Colorado.

Application Number: 13-09-C-00-HDN.

Application Type: Impose and use a PFC.

PFC Level: $4.50.

Total PFC Revenue Approved in this Decision: $2,332,663.

Earliest Charge Effective Date: November 1, 2013.

Estimated Charge Expiration Date: September 1, 2018.

Class of Air Carriers Not Required to Collect PFC'S: None.

Brief Description of Projects Approved for Collection and Use:

Acquire snow removal equipment.

Install fuel storage tank.

Acquire aircraft rescue and firefighting vehicle.

Install curbside bag belt in airport terminal.

Modify snow removal equipment storage building.

Conduct wildlife hazard assessment.

PFC administration.

Brief Description of Withdrawn Project:Acquire foreign object debris remover.

Date of Withdrawal: October 7, 2013.

Decision Date: October 8, 2013.

FOR FURTHER INFORMATION CONTACT: Jesse Lyman, Denver Airports District Office, (303) 342-1280.

Public Agency: Golden Triangle Regional Airport Authority, Columbus, Mississippi.

Application Number: 14-08-C-00-GTR.

Application Type: Impose and use a PFC.

PFC Level: $4.50.

Total PFC Revenue Approved in this Decision: $171,490.

Earliest Charge Effective Date: October 1, 2018.

Estimated Charge Expiration Date: October 1, 2019.

Class of Air Carriers Not Required to Collect PFC'S:None.

Brief Description of Projects Approved for Collection And Use:

Sealcoat runway and taxiway.

Rehabilitate taxiway.

Rehabilitate taxiway (design).

Decision Date: January 2, 2014.

FOR FURTHER INFORMATION CONTACT: Brian Hendry, Jackson Airports District Office, (601) 664-9897.

Public Agency: County of Oneida and City of Rhinelander, Rhinelander, Wisconsin.

Application Number: 14-13-C-00-RHI.

Application Type: Impose and use a PFC.

PFC Level: $4.50.

Total PFC Revenue Approved in this Decision: $47,508.

Earliest Charge Effective Date: May 1, 2014.

Estimated Charge Expiration Date: December 1, 2014.

Class Of Air Carriers Not Required To Collect PFC'S:Part 135 air taxi/commercial operators filing FAA Form 1800-31 and operating at Rhinelander/Oneida County Airport (RHI).

Determination: Approved. Based on information submitted in the public agency's application, the FAA has determined that the approved class accounts for less than 1 percent of the total annual enplanements at RHI.

Brief Description of Projects Approved for Collection and Use:

Design and construction of taxiway.

Aircraft rescue and firefighting facility (design).

Environmental assessment—remove obstructions.

Design obstruction removal.

Mark airfield pavements.

Construct aircraft rescue and firefighting building.

Design and construct access road.

Decision Date: January 22, 2014.

FOR FURTHER INFORMATION CONTACT: Nancy Nistler, Minneapolis Airports District Office, (612) 253-4638.

Amendments to PFC Approvals
Amendment no. city, state | Amendment approved date | Original approved net PCF revenue | Amended approved net PCF revenue | Original estimated charge exp. date | Amended estimated charge exp. date
11-10-C-01-VLD Valdosta GA | 12/17/13 | $472,800 | $517,379 | 01/01/14 | 01/01/14
12-14-C-02-YKM Yakima, WA | 01/06/14 | 907,615 | 1,041,984 | 03/01/15 | 01/01/16
03-03-C-02-HLN Helena, MT | 01/10/14 | 2,938,178 | 3,383,375 | 10/01/12 | 03/01/15
08-02-C-04-PIE Clearwater, FL | 01/15/14 | 10,528,075 | 17,685,075 | 08/01/14 | 06/01/17
09-08-C-01-HDN Hayden, CO | 01/16/14 | 1,691,312 | 696,252 | 05/01/15 | 09/01/13
03-06-C-01-FAR Fargo, ND | 01/16/14 | 12,469,848 | 10,197,865 | 05/01/17 | 04/01/12
04-06-C-02-PSC Pasco, WA | 01/16/14 | 8,599,230 | 5,545,404 | 04/01/16 | 09/01/09
09-01-C-02-CHS Charleston, SC | 01/22/14 | 14,833,920 | 14,415,631 | 06/01/13 | 05/01/13
12-19-C-01-COS Colorado Springs, CO | 01/23/14 | 728,878 | 633,878 | 06/01/14 | 11/01/15
13-08-C-01-LBB Lubbock, TX | 01/27/14 | 6,859,912 | 6,859,912 | 05/01/20 | 05/01/20

Issued in Washington, DC, on March 6, 2014.
Joe Hebert,
Manager, Financial Analysis and Passenger Facility Charge Branch.

[FR Doc. 2014-05358 Filed 3-11-14; 8:45 am]

BILLING CODE 4910-13-P